ENVIRONMENTAL PROTECTION AGENCY

[FRL-7976-7]

Ward Transformer Superfund Site; Notice of Proposed Settlement

AGENCY: Environmental Protection Agency (EPA).

ACTION: Notice of cost recovery settlement.

SUMMARY: Under section 122(h) (1) of the Comprehensive Environmental Response Compensation and Liability Act (CERCLA), the Environmental Protection Agency has offered a cost recovery settlement at the Ward Transformer Superfund Site (Site) located in Raleigh, Wake County, North Carolina. EPA will consider public comments until October 31, 2005. EPA may withdraw from or modify the proposed settlement should such comments disclose facts or considerations which indicated the proposed settlement is inappropriate, improper, or inadequate. Copies of the proposed settlement are available from: Ms. Paula V. Batchelor, U.S. Environmental Protection Agency, Region 4, Superfund Enforcement & Information Management Branch, Waste Management Division, 61 Forsyth Street, SW., Atlanta, Georgia 30303, (404) 562-8887, Email: Batchelor.Paula@EPA.gov.

Written or email comments may be submitted to Paula V. Batchelor at the above address within 30 days of the date of publication.

Dated: September 15, 2005.
Rosalind H. Brown,
Chief, Superfund Enforcement & Information Management Branch, Waste Management Division.

[FR Doc. 05-19494 Filed 9-28-05; 8:45 am]

BILLING CODE 6560-50-P